DEPARTMENT OF HEALTH AND HUMAN SERVICES

National Institutes of Health

Eunice Kennedy Shriver National Institute of Child Health & Human Development; Amended Notice of Meeting

Notice is hereby given of a change in the meeting of the National Institute of Child Health and Human Development Special Emphasis Panel, November 14, 2019, 08:00 a.m. to November 15, 2019, 05:00 p.m., Residence Inn Bethesda, which was published in the Federal Register on February 28, 2019, 84 FR 6807.

The date of this meeting has changed from November 14, 2019, 08:00 a.m. to November 15, 2019, 05:00 p.m. to November 19, 2019, 08:00 a.m. to November 19, 2019, 05:00 p.m. The location of the meeting has changed from the Residence Inn Bethesda to 6710B Rockledge Drive, Room 2121B, Bethesda, MD 20892. The meeting is closed to the public.

Dated: September 30, 2019.
Ronald J. Livingston, Jr.,
Program Analyst, Office of Federal Advisory Committee Policy.

[FR Doc. 2019-21603 Filed 10-3-19; 8:45 am]

BILLING CODE 4140-01-P